DEPARTMENT OF ENERGY

Federal Energy Regulatory Commission

[Docket No. PF03-8-000]

Transwestern Pipeline Company; Notice of Intent To Prepare an Environmental Assessment for Transwestern's Proposed San Juan 2005 Expansion Project and Request for Comments on Environmental Issues

December 24, 2003.

The staff of the Federal Energy Regulatory Commission (FERC or Commission) will prepare an environmental assessment (EA) that will discuss the environmental impacts of Transwestern Pipeline Company's (Transwestern) proposed San Juan 2005 Expansion Project in New Mexico. This notice announces the opening of the scoping process we ¹ will use to gather input from the public and interested agencies on the project. Your input will help us determine which issues need to be evaluated in the EA. The Commission will use the EA in its decision-making process to determine whether or not to authorize the project. Please note that the scoping period will close on January 26, 2004.

¹ “We,” “us,” and “our” refer to the environmental staffs of the FERC's Office of Energy Projects.

The San Juan 2005 Expansion Project is in the preliminary design stage. At this time no formal application has been filed with the FERC. For this project, the FERC staff is initiating its National Environmental Policy Act (NEPA) review prior to receiving the application. The purpose of the NEPA Pre-filing Process is to involve interested stakeholders early in project planning and to identify and resolve issues before an application is filed with the FERC. A docket number (PF03-8-000) has been established to place information filed by Transwestern and related documents issued by the Commission, into the public record.² Once a formal application is filed with the FERC, a new docket number will be established.

² To view information in the docket, follow the instructions for using the eLibrary link at the end of this notice.

On November 3-6, 2003, the FERC staff held interagency meetings in Albuquerque, Bloomfield, and Gallup, New Mexico to discuss the project and the environmental review process with Transwestern and other key Federal, tribal, and state agencies. These agencies included: Navajo Nation Environmental Protection Agency, Navajo Nation Department of Fish and Wildlife, Navajo Nation Historic Preservation Office, U.S. Bureau of Land Management; Bureau of Indian Affairs, State of New Mexico Environment Department, and the New Mexico State Lands Office. Currently, all agencies above have expressed their intention to participate as cooperating agencies in the preparation of the EA.

This notice is being sent to landowners; Federal, state, Navajo Nation, and local government agencies; elected officials; environmental and public interest groups; Native American tribes; and local libraries and newspapers. We encourage government representatives to notify their constituents of this planned project and encourage them to comment on their areas of concern.

Some affected landowners may be contacted by a project representative about the acquisition of an easement to construct, operate, and maintain the proposed facilities. If they are, the company would seek to negotiate a mutually acceptable agreement. However, in the event that the project is certificated by the Commission, that approval conveys the right of eminent domain for securing easements for the pipeline. Therefore, if easement negotiations fail to produce an agreement, the company could initiate condemnation proceedings in accordance with state law.

Summary of the Proposed Project

Transwestern proposes to expand its natural gas system by the construction of approximately 72.6 miles of pipeline loop ³ (the San Juan Lateral Loop) and modifying facilities at seven existing compressor stations in New Mexico. More specifically, Transwestern requests Commission authorization to:

³ A pipeline “loop” is a segment of pipe installed adjacent to an existing pipeline and connected to the existing pipeline at both ends. A loop increases the amount of gas that can move through that portion of the system.

• Construct and operate approximately 63.2 miles of 36-inch diameter pipeline loop starting at approximate milepost (MP) 8.7 on the existing Transwestern San Juan Lateral, in San Juan County, New Mexico, extending south-southwest to the existing mainline valve (MLV) south of Navajo Highway 9 at about MP 71.9;

• Construct and operate an additional approximately 9.4 miles of 36-inch diameter pipeline loop starting at the existing MLV just south of Pinedale Road in McKinley County, New Mexico (about MP 87.7), and extending south-southwest to terminate at the existing Transwestern Gallup Compressor Station in McKinley County, New Mexico. The Gallup Compressor Station is located at approximate MP 97.1 of the existing San Juan Lateral;

• Bloomfield Compressor Station—Install and operate one, new 15,000 horsepower (HP) electric-drive compressor unit and associated facilities at its existing station, located in San Juan County, New Mexico;

• Bisti Compressor Station—Remove an existing 10,000 HP electric-drive compressor unit and replace it with a new 15,000 HP electric drive compressor unit (de-rated to run at 12,000 HP) at its existing station, located in San Juan County, New Mexico;

• Gallup Compressor Station—Remove an existing compressor unit (compressor only, not the motor) and replace it with a new compressor unit at its existing station in McKinley County, New Mexico;

• Compressor Station 5—Rewheel an existing compressor unit and modify station piping at its existing station located near Thoreau, McKinley County, New Mexico;

• Compressor Station 6—Install cylinder unloaders on an existing compressor unit at its existing station located near Laguna, Cibola County, New Mexico;

• Compressor Station 7—Rewheel an existing compressor unit at its existing station located near Mountainair, Torrance County, New Mexico;

• Compressor Station 9—Rewheel an existing compressor unit and install a new gas scrubber and associated station piping at its existing station located near Roswell, Chaves County, New Mexico;

• Install side valves at new tie-in locations and MLVs at various locations as required by U.S. Department of Transportation regulations.

A map depicting the proposed pipeline route and compressor stations is provided in appendix 1.⁴

⁴ The appendices referenced in this notice are not being printed in the Federal Register. Copies are available on the Commission's Internet Web site (http://www.ferc.gov) at the “eLibrary” link or from the Commission's Public Reference and Files Maintenance Branch at 202.502.8371. For instructions on connecting to eLibrary, refer to the end of this notice. Copies of the appendices were sent to all those receiving this notice in the mail.

Transwestern proposes to place the project in service by June 2005. To achieve this in-service date, Transwestern intends to request approval to begin construction of the pipeline facilities in July 2004.

Land Requirements

Construction of the proposed facilities would require about 1,082.1 acres of land. The construction right-of-way width for the pipeline would be 110 feet, and would be adjacent to existing rights-of-way for its entire length (25 feet overlap of the existing right-of-way and 85 feet new construction right-of-way). Transwestern would maintain approximately 220.1 acres of new permanent right-of-way (50 feet of permanent easement, of which 25 feet would be overlap of the existing right-of-way) for pipeline operation and maintenance following construction.

The EA Process

NEPA requires the Commission to take into account the environmental impacts that could result from an action whenever it considers the issuance of a Certificate of Public Convenience and Necessity. NEPA also requires us to discover and address issues and concerns the public may have about proposals. This process is referred to as “scoping”. The main goal of the scoping process is to focus the analysis in the EA on the important environmental issues and reasonable alternatives. By this notice, we are requesting agency and public comments on the scope of the issues to be analyzed and presented in the EA. All scoping comments received will be considered during the preparation of the EA. To ensure your comments are considered, please carefully follow the instructions in the public participation section of this notice. The FERC will be the lead Federal agency in the preparation of the EA. The document will satisfy the requirements of NEPA.

Our independent analysis of the issues will be included in an EA. The EA will be mailed to Federal, Navajo Nation, state, and local government agencies; elected officials; environmental and public interest groups; Native American tribes; affected landowners; other interested parties; local libraries and newspapers; and the Commission's official service list for this proceeding. A 30-day comment period will be allotted for review of the EA. We will consider all comments on the EA and revise the document, before we make our recommendations to the Commission.

Public Participation

You can make a difference by providing us with your specific comments or concerns about the project. You should focus on the potential environmental effects of the proposal, reasonable alternatives routes to the proposal, and measures to avoid or lessen environmental impact. The more specific your comments, the more useful they will be. By becoming a commentor, your concerns will be addressed in the EA and considered by the Commission. To ensure that your comments are timely and properly recorded, please mail your comments so that they will be received in Washington, DC on or before January 19, 2004, and carefully follow these instructions:

• Send an original and two copies of your letter to: Magalie R. Salas, Secretary, Federal Energy Regulatory Commission, 888 First St., NE., Room 1A, Washington, DC 20426;

• Label one copy of your comments for the attention of Gas Branch 2; and

• Reference Docket No. PF03-8-000 on the original and both copies.

Please note that we are continuing to experience delays in mail deliveries from the U.S. Postal Service. Therefore, the Commission encourages electronic filing of comments.

See 18 CFR 385.2001(a)(1)(iii) and the instructions on the Commission's Internet Web site at http://www.ferc.gov under the “e-Filing” link and the link to the User's Guide. Prepare your submission in the same manner as you would if filing on paper and save it to a file on your hard drive. Before you can file comments you will need to create an free account by clicking on “Login to File” and then “New User Account.” You will be asked to select the type of filing you are making. This filing is considered a “Comment on Filing.”

Availability of Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERCONLINESUPPORT@FERC.GOV. The eLibrary link on the FERC Internet Web site also provides access to the texts of formal documents issued by the Commission, such as orders, notices, and rulemakings.

In addition, the Commission now offers a free service called eSubscription which allows you too keep track of all formal issuances and submittals in specific dockets. This can reduce the amount of time you spend researching proceedings by automatically providing you with notification of these filings, document summaries and direct links to the documents. Go to www.ferc.gov/esubscribenow.htm.

A fact sheet prepared by the FERC entitled “An Interstate Natural Gas Facility On My Land? What Do I Need To Know?” is available for viewing on the FERC Internet Web site (http://www.ferc.gov). This fact sheet addresses a number of typically asked questions, including the use of eminent domain and how to participate in the Commission's proceedings.

Finally, Transwestern has established an Internet Web site for this project at http://www.crosscountryenergy.com/about/tw.shtml. The Web site includes helpful information about the project.

Linda Mitry,
Acting Secretary.

Appendix—Information Request

Please keep my name on the mailing list for the San Juan 2005 Expansion Project

Name__________

Agency_________

Address_________

City____ State__ Zip Code__

[ ] Please provide detailed maps for the facilities closest to the following area(s):

[ ] My mailing address.

[ ] My property.

(Requests for more than a single map location may be expedited by asking the company directly.)

(Be as specific as you can about the location(s) of your area(s) of interest. Please include any information that would help us accurately locate these area(s). For example: county, town, cross-streets, or landmarks.

[FR Doc. E3-00675 Filed 12-31-03; 8:45 am]

BILLING CODE 6717-01-P